ENVIRONMENTAL PROTECTION AGENCY

[WA-06-001, FRL-8031-6]

Procedures for Determining Localized Carbon Monoxide Concentrations (Hot-Spot Analysis) for Transportation Conformity Under the Clean Air Act in Washington State

AGENCY: Environmental Protection Agency (EPA).

ACTION: Notice.

SUMMARY: Notice is hereby given that EPA, in accordance with the regulations has approved a `different procedure' submitted on November 7, 2005 for determining localized carbon monoxide (CO) concentrations (hot-spot analysis) for Transportation Conformity under the Clean Air Act in Washington State.

FOR FURTHER INFORMATION CONTACT: Wayne Elson, U.S. EPA, Region 10 (AWT-107), 1200 Sixth Ave., Seattle, WA 98101; (206) 553-1463 or elson.wayne@epa.gov, or Mia Waters, Washington State Department of Transportation, 15700 Dayton Avenue North, PO Box 330310, Seattle, WA 98133; (206) 440-4541 or WatersY@wsdot.wa.gov.

SUPPLEMENTARY INFORMATION: This is a notice of EPA's approval of the Washington State Intersection Screening Tool (WASIST) for carbon monoxide (CO) concentrations (hot-spot analysis) for Transportation Conformity under the Clean Air Act in Washington State submitted by the Washington State Department of Transportation on November 7, 2005. This ‘different procedure' was developed through the interagency consultation process and is consistent with 40 CFR 93.105. The basis for this approval is provided by 40 CFR 93.123 (a)(1). A letter approving WASIST was sent to Washington State Department of Transportation on February 2, 2006. The purpose of WASIST is to provide a different procedure to ensure that highway projects in Washington state will not cause or contribute to any new localized CO violations or increase the frequency or severity of any existing CO violations in CO nonattainment and maintenance areas consistent with 40 CFR 93.116. This different procedure will result in a substantial cost savings to governments in Washington when making project level CO hot-spot transportation conformity demonstrations for highway projects.

Authority: 42 U.S.C. 7401-7671q.

Dated: February 6, 2006.
L. Michael Bogert,
Regional Administrator, Region 10.

[FR Doc. E6-2051 Filed 2-13-06; 8:45 am]

BILLING CODE 6560-50-P